DEPARTMENT OF COMMERCE

National Oceanic and Atmospheric Administration

50 CFR Part 648

RIN 0648-BK20

Magnuson-Stevens Fishery Conservation and Management Act Provisions; Fisheries of the Northeastern United States; Amendment 22 to the Mackerel, Squid, and Butterfish Fishery Management Plan

AGENCY: National Marine Fisheries Service (NMFS), National Oceanic and Atmospheric Administration (NOAA), Commerce.

ACTION: Announcement of the availability of a proposed fishery management plan amendment; request for comments.

SUMMARY: NMFS announces that the Mid-Atlantic Fishery Management Council submitted Amendment 22 to the Mackerel, Squid, and Butterfish Fishery Management Plan to the Secretary of Commerce for review and approval. We are requesting comments from the public on this amendment in accordance with the Magnuson-Stevens Fishery Conservation and Management Act. This amendment would implement updated and reformatted goals and objectives for the fishery management plan, a tiered permit system for vessels currently issued an Illex squid moratorium permit, a fish hold volume baseline, a fish hold volume upgrade restriction for the highest tier Illex squid moratorium permits, and clarify that all Illex squid moratorium permits must submit daily catch reports via the vessel monitoring system. The purpose of this action is to align the fishery goals/objectives with current Council vision and priorities and to revise the number and types of Illex squid moratorium permits to reduce the negative effects from a race to fish in recent years.

DATES: Comments must be received on or before August 8, 2022.

ADDRESSES: You may submit comments on this document, identified by NOAA-NMFS-2022-0056, by the following method:

Electronic Submission: Submit all electronic public comments via the Federal e-Rulemaking Portal. Go to www.regulations.gov/#!docketDetail;D=NOAA-NMFS-2022-0056, click the “Comment Now!” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The Mid-Atlantic Council prepared an environmental assessment (EA) for Amendment 22 that describes the proposed action and provides an analysis of the impacts of the proposed measures and other alternatives considered. Copies of Amendment 22, including the EA, the Regulatory Impact Review, and the Regulatory Flexibility Act analysis, are available from: Christopher Moore, Executive Director, Mid-Atlantic Fishery Management Council, Suite 201, 800 State Street, Dover, DE 19901. The EA and associated analysis is accessible via the internet http://www.mafmc.org/supporting-documents.

FOR FURTHER INFORMATION CONTACT: Carly Bari, Fishery Policy Analyst, 978-281-9150.

SUPPLEMENTARY INFORMATION:

Background

The original goals and objectives for the Mackerel, Squid, and Butterfish Fishery Management Plan (FMP) were developed in 1981 when the individual fisheries were merged into one FMP. Since that time, the Magnuson-Stevens Fishery Conservation and Management Act (Magnuson-Stevens Act) has been amended several times and the Mid-Atlantic Fishery Management Council has developed several strategic plans to reflect updated priorities and strategic initiatives such as integrating an ecosystem approach to fisheries management into its FMPs. In September 2020, Atlantic chub mackerel was formally integrated into the FMP, along with updated goals and objectives for managing this species. The Council initiated Amendment 22 in January 2019 in part to update the FMP's goals and objectives to reflect current Council vision and priorities, make them consistent with the formats used in other FMPs managed by the Council, and to merge the original FMP goals and objectives with those developed for Atlantic chub mackerel.

Amendment 22 is also intended to reconsider the appropriate number of Illex squid moratorium permits. Originally implemented in 1997 under Amendment 5 to the FMP (May 27, 1997; 62 FR 28638), there are currently about 75 Illex moratorium permits remaining in the fishery. Since 2017, we have closed the Illex squid fishery in August or September of each year because the fishery fully harvested the available quota, with more vessels actively participating in the fishery in recent years. Because not all vessels issued an Illex moratorium permit have actively participated in the fishery in recent years, the Council is concerned that these other permits may become active in the fishery, exacerbating the race to fish observed since 2017 and the negative impacts to participants caused by early fishery closures.

To address these issues, Amendment 22 proposes the following measures, which are outlined in further detail in the EA prepared for this action (see ADDRESSES):

• Updated FMP goals and objectives reformatted to reflect current Council vision and priorities and the integration of approved Atlantic chub mackerel goals and objectives;

• A Tier 1 Illex squid moratorium permit for any existing Illex moratorium permit that landed at least 500,000 lb (226.8 mt) of Illex squid in one year from 1997-2013 or purchased and installed a refrigerated seawater system, plate freezing system, or blast freezer between January 1 and August 2, 2013, that also landed at least 200,000 lb (90.7 mt) of Illex squid before December 31, 2013;

• A Tier 2 Illex squid moratorium permit for any existing Illex moratorium permit that landed at least 100,000 lb (45.4 mt) of Illex squid in one year from 1997-2018;

• A Tier 3 Illex squid moratorium permit for any existing Illex moratorium permit that landed at least 50,000 lb (22.7 mt) of Illex squid in one year from 1997-2018;

• Illex squid possession limits for new Illex squid moratorium permits proposed in this action, including an unlimited initial possession limit for Tier 1 permits, a 62,000-lb (28,123-kg) possession limit for Tier 2 permits, and a 20,000-lb (9,072-kg) possession limit for Tier 3 permits;

• A fish hold volume baseline measurement and 10-percent upgrade restriction for proposed Tier 1 Illex squid moratorium permits; and

• Clarification that Illex squid moratorium permits must report daily catch via the vessel monitoring system on declared Illex squid trips.

In accordance with section 304(a)(1) of the Magnuson-Stevens Act, we are soliciting public comments on Amendment 22 to the Mackerel, Squid, and Butterfish FMP and its incorporated documents through the end of the comment period specified in the DATES section of this notice of availability (NOA). Under this provision of the Magnuson-Stevens Act (section 304(a)(3)), the Secretary may approve, partially approve, or disapprove the amendment as submitted by the Council. All comments received by the end of the comment period of the NOA will be considered in the approval/disapproval decision on the amendment. Comments received after the end of the comment period for the NOA will not be considered in the approval/disapproval decision.

In a letter dated April 22, 2020, and available on the Council's website (see the July 16, 2020, meeting at www.mafmc.org/meetings), we expressed concerns with the requalification and tiered permitting measures considered by the Council in the development of this action. These concerns remain, and we invite public input on whether this action satisfies the requirements of the Magnuson-Stevens Act's National Standards, is consistent with the Mackerel, Squid, and Butterfish FMP's goals and objectives, and accomplishes the Amendment's statements of need, purpose, and objectives. If, after reviewing public comments received in response to this NOA, we approve this action, we will publish a proposed rule in the Federal Register that would implement the amendment's management measures and solicit additional public comment at that time on the proposed regulations.

Authority: 16 U.S.C. 1801 et seq.

Dated: June 2, 2022.
Jennifer M. Wallace,
Acting Director, Office of Sustainable Fisheries, National Marine Fisheries Service.

[FR Doc. 2022-12226 Filed 6-6-22; 8:45 am]

BILLING CODE 3510-22-P